DEPARTMENT OF THE INTERIOR

Bureau of Land Management

[ES-020-03-1320-EL]

Intent To Prepare a Land Use Analysis/Environmental Assessment; Alabama

AGENCY: Bureau of Land Management, Interior.

ACTION: Notice of intent to prepare a land use analysis/environmental assessment.

SUMMARY: The Bureau of Land Management's Eastern States, Jackson Field Office, is preparing a Land Use Analysis/Environmental Assessment (LUA/EA) to consider leasing Federal coal in response to lease application ALES-51589. This notice is issued pursuant to 40 CFR 1501.7, 43 CFR 1610.2(c) and 43 CFR part 3420. The planning effort will follow the procedures set forth in 43 CFR part 1610. As provided at 43 CFR part 3420, information and data pertaining to the coal deposits or other resources, which potentially may be affected by development of the coal, are requested. The public is invited to participate in this planning process, beginning with the identification of planning issues and criteria.

Coal companies, state and local governments and the general public are encouraged to submit information to assist in determining (1) coal development potential, and (2) development conflicts with other resources.

DATES: Comments will be accepted on or before July 21, 2003.

Public Participation: This notice initiates the National Environmental Policy Act (NEPA) public scoping process. The agencies will work collaboratively with interested parties to identify the management decisions that are best suited to national, regional and local needs and concerns. The public is invited to participate in this planning process, beginning with the identification of issues and planning criteria along with submittal of coal or other resource or land use information.

ADDRESSES: Comments should be sent to Sid Vogelpohl, Bureau of Land Management, 411 Briarwood, Suite 404; Jackson, MS 39206.

FOR FURTHER INFORMATION CONTACT: Sid Vogelpohl, Bureau of Land Management, (601) 977-5402.

SUPPLEMENTARY INFORMATION: The coal lease application, filed by Pittsburg & Midway Coal Mining Company, is located in Fayette County, Alabama. The lease application area is approximately 1.5 miles southeast of Berry, Alabama. The lease application area, totaling 2,887.2 acres, is described as follows:

Township 16 South, Range 10 West, Huntsville Meridian

Section 14: SW¼SW¼,

Section 15: SE¼SW¼, S½SE¼, NE¼SE¼,

Section 21: N½SW¼, SW¼SW¼, E½,

Section 22: All,

Section 23: NW¼, W½SW¼, SW¼SE¼,

Section 26: NW¼NW¼,

Section 27: N½, SE¼,

Section 28: E½NE¼, N½SW¼, SE¼SW¼, SE¼,

Section 31: NE¼SE¼,

Section 33: NE¼, E½NW¼,

Section 34: NW¼.

The applicant proposes to mine the Federal coal in the lease application area by underground methods extending from the existing North River Mine. The surface estate overlying the lease application area is privately owned.

The BLM has the responsibility to address coal lease applications on Federal mineral estate under the Mineral Leasing Act of 1920, as amended. The Office of Surface Mining, in coordination with the State of Alabama, has responsibility to issue Mine Permits under the Surface Mining Control and Reclamation Act.

Current mining at the North River Mine (Mine Permit P-3222) does not include Federal coal. The coal lease applicant has filed for an amendment to the existing Permit to extend the Mine into Federal coal in the lease application area and associated private coal.

An interdisciplinary team will prepare the LUA/EA. Preliminary issues, subject to change as a result of public input, are (1) potential impacts of coal exploration and development on the surface and subsurface resources and (2) consideration of restrictions on lease rights to protect surface resources.

Preliminary planning criteria developed to guide the preparation of the PA, subject to change as a result of public input, are as follows:

1. Land use planning and environmental analysis will be conducted in accordance with laws, regulations, executive orders and manuals. Planning will be conducted for the federal coal mineral estate (leaseable mineral estates, such as, coal; are under the administration of the BLM).

2. A mine plan scenario will be prepared for the Federal coal resource. The surface estate is privately owned.

3. Resource data needed to evaluate the impacts of coal exploration and mining will be collected.

4. The planning team will work cooperatively with (a) federal, state, county and local governments and agencies, (b) tribal governments, (c) groups and organizations and (d) individuals. Comments relating to the preliminary issues and planning criteria should be submitted in writing to the address provided above.

An individual, business entity, or public body may participate in this process by providing information regarding coal or other resource information to assist in determining conflicts that may result from issuance of the coal lease. For other resource information, participants are asked to identify the particular resource value, to provide the reason that the resource would conflict with coal development and provide a map (minimal scale 1:24,000) showing the location of the resource.

The information available to the interdisciplinary team will be considered in addressing the specific resources and uses identified in the 20 Unsuitability Criteria listed at 43 CFR part 3461. Screening of the federal coal lands in the application area through the Unsuitable Criteria will result in a determination as to which lands are (1) acceptable for further leasing consideration with standard stipulations or (2) acceptable for further leasing consideration with special stipulations or (3) are unacceptable for further consideration for leasing.

Lands acceptable for further leasing consideration after screening through the Unsuitability Criteria will be further screened in regards to other resource values and uses that could be affected by lease issuance.

Individual respondents may request confidentiality. If you wish to withhold your name or street address from public review or from disclosure under the Freedom of Information Act, you must state this prominently at the beginning of your written comments. Such requests will be honored to the extent allowed by the law. All submissions from organizations, businesses and individuals identifying themselves as representatives or officials of organizations or businesses will be available for public inspection in their entirety.

Due to the limited scope of this LUA/EA, a public meeting is not scheduled during this scoping stage. However, a public hearing will be conducted, in accordance with 43 CFR part 3420 and 1600, upon the completion of the LUA/EA. This hearing will be announced through the Federal Register and a local newspaper, at least 15 days prior to the hearing.

Dated: May 8, 2003.
Bruce E. Dawson,
Field Manager, Jackson Field Office.

[FR Doc. 03-15605 Filed 6-19-03; 8:45 am]

BILLING CODE 4310-GJ-P